DEPARTMENT OF ENERGY

Federal Energy Regulatory Commission

[Docket No. CP19-491-000]

National Fuel Gas Supply Corporation; Notice of Request for Extension of Time

Take notice that on June 2, 2022, National Fuel Gas Supply Corporation (National Fuel) requested that the Federal Energy Regulatory Commission (Commission) grant an extension of time, until December 31, 2022, to abandon certain facilities authorized in the Order Issuing Certificates and Authorizing Abandonment issued on July 17, 2020 (Certificate Order).¹ The Certificate Order authorized Transcontinental Gas Pipe Line Company, LLC's Leidy South Project in Docket No. CP19-494-000 and National Fuel's FM100 Project in the instant docket. The Commission's February 22, 2021 Notice to Proceed with Construction granted National Fuel's request to commence construction activities for the FM100 Project but did not grant authority to commence abandonment activities. National Fuel states that it has completed the pipeline construction activities and went into service on December 1, 2021. National Fuel requested a notice to proceed with abandonment activities on May 4, 2022, which was granted by the Commission on May 9, 2022. Ordering Paragraph (E)(1) of the Certificate Order required National Fuel to install and abandon its facilities for the FM100 Project by July 17, 2022.

¹ National Fuel Gas Supply Corporation, 172 FERC ¶ 61,039 (2020).

National Fuel states that abandonment consists of the following activities: (a) abandonment of approximately 44.9 miles of Line FM100; (b) abandonment of Station WHP-MS-4317X; and (c) abandonment of the Costello Compressor Station. National Fuel avers that of the 44.9 miles planned for abandonment, approximately 30.2 miles traverse Pennsylvania Department of Conservation and Natural Resources (DCNR) owned land including the Moshannon, Elk, and Susquehannock State Forests. National Fuel asserts that it has worked diligently to complete the FM100 Project but in order to accommodate DCNR's construction timing restrictions, National Fuel has delayed the start of abandonment activities until June 2022 to minimize impacts to DCNR public-use roadways and to avoid hunting seasons.

National Fuel states that the extension of time is necessary to enable it to safely complete the abandonment work on the FM100 Project. National Fuel requests that the Commission issue any waivers that may be necessary to grant the extension of time. National Fuel asserts that the extension of time will not result in any additional environmental impacts not already examined on the record. Accordingly, National Fuel requests an extension of the July 17, 2022 deadline to complete abandonment activities time until December 31, 2022.

This notice establishes a 15-calendar day intervention and comment period deadline. Any person wishing to comment on National Fuel's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2021).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on: June 22, 2022.

Dated: June 7, 2022.
Kimberly D. Bose,
Secretary.

[FR Doc. 2022-12673 Filed 6-10-22; 8:45 am]

BILLING CODE 6717-01-P